DEPARTMENT OF HOMELAND SECURITY

Coast Guard

33 CFR Part 117

[Docket No. USCG-2015-0723]

Drawbridge Operation Regulations; Northeast Cape Fear River, Wilmington, NC

AGENCY: Coast Guard, DHS.

ACTION: Notice of deviation from drawbridge regulation.

SUMMARY: The Coast Guard has issued a temporary deviation from the operating schedule that governs the Isabel S. Holmes Bridge across the Northeast Cape Fear River, mile 1.0, at Wilmington, NC. This deviation is necessary to facilitate the annual Beach2Battleship Iron and Half-Iron Distance Triathlons. This deviation allows the bridge to remain in the closed-to-navigation position.

DATES: This deviation is effective from 9:30 a.m. to 6 p.m. on October 17, 2015.

ADDRESSES: The docket for this deviation, [USCG-2015-0723], is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Hal R. Pitts, Bridge Administration Branch Fifth District, Coast Guard; telephone (757) 398-6222, email Hal.R.Pitts@uscg.mil. If you have questions on viewing the docket, call Cheryl Collins, Program Manager, Docket Operations, telephone 202-366-9826.

SUPPLEMENTARY INFORMATION: The North Carolina Department of Transportation, who owns and operates the Isabel S. Holmes Bridge, has requested a temporary deviation from the current operating regulations set out in 33 CFR 117.829(a), to facilitate the annual Beach2Battleship Iron and Half-Iron Distance Triathlons.

Under the normal operating schedule for the Isabel S. Holmes Bridge across the Northeast Cape Fear River, mile 1.0, at Wilmington, NC in 33 CFR 117.829(a); the draw will be closed to pleasure craft from 6 a.m. to 6 p.m. every day except at 10 a.m. and 2 p.m. when the draw will open for all waiting vessels; the draw will open on signal for Government and commercial vessels at all times; the draw will open for all vessels on signal from 6 p.m. to 6 a.m. The bridge has a vertical clearance in the closed-to-navigation position of 40 feet above mean high water.

Under this temporary deviation, the bridge will be closed to navigation from 9:30 a.m. to 6 p.m. on October 17, 2015. The Northeast Cape Fear River is used by a variety of vessels including small commercial fishing vessels, recreational vessels and tug and barge. The Coast Guard has carefully coordinated the restrictions with commercial and recreational waterway users.

Vessels able to pass through the bridge in the closed position may do so at anytime. The bridge will be able to open for emergencies and there is no alternate route for vessels unable to pass through the bridge in the closed position. The Coast Guard will also inform the users of the waterways through our Local and Broadcast Notice to Mariners of the change in operating schedule for the bridge so that vessels can arrange their transits to minimize any impacts caused by the temporary deviation.

In accordance with 33 CFR 117.35(e), the drawbridge must return to its regular operating schedule immediately at the end of the effective period of this temporary deviation. This deviation from the operating regulations is authorized under 33 CFR 117.35.

Dated: August 19, 2015.
Hal R. Pitts,
Bridge Program Manager, Fifth Coast Guard District.

[FR Doc. 2015-20913 Filed 8-24-15; 8:45 am]

BILLING CODE 9110-04-P